DEPARTMENT OF TRANSPORTATION

Federal Aviation Administration

14 CFR Part 71

[Docket No. FAA-2021-0596; Airspace Docket No. 20-AGL-15]

RIN 2120-AA66

Amendment of V-6, V-10, V-30, V-100, and V-233 in the Vicinity of Litchfield, MI

AGENCY: Federal Aviation Administration (FAA) DOT.

ACTION: Final rule; withdrawal.

SUMMARY: This action withdraws the final rule published in the Federal Register on March 21, 2022, amending VHF Omnidirectional Range (VOR) Federal airways V-6, V-10, V-30, V-100, and V-233 in the vicinity of Litchfield, MI, due to the planned decommissioning of the VOR portion of the Litchfield, MI, VOR/Distance Measuring Equipment (VOR/DME) navigational aid. Unanticipated issues affecting the completion of related VOR Minimum Operational Network (MON) Program instrument procedure amendments and the associated flight inspection activities required to adopt those amendments have made this withdrawal action necessary.

DATES: As of April 7, 2022, the final rule published on March 21, 2022 (87 FR 15879) is withdrawn.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register for Docket No. FAA-2021-0596 (87 FR 15879; March 21, 2022) amending VOR Federal airways V-6, V-10, V-30, V-100, and V-233 due to the planned decommissioning of the VOR portion of the Litchfield, MI, VOR/DME. The effective date of that rule is May 19, 2022. Subsequent to the final rule, unanticipated requirements and issues affecting the completion of related instrument procedure amendments and the associated flight inspection activities required to adopt those amendments by the published effective date have been identified. As a result, the planned Litchfield, MI, VOR decommissioning has been slipped to April 20, 2023.

FAA's Conclusions

The FAA has reviewed the Litchfield, MI, VOR decommissioning project and determined additional time is required to complete the related instrument procedure amendments and associated flight inspection activities to ensure an efficient implementation and integration with other ongoing VOR MON program actions. Therefore, the final rule is being withdrawn.

The existing VOR Federal airways (V-6, V-10, V-30, V-100, and V-233) addressed in the final rule remain unchanged.

The FAA will publish a new notice of proposed rulemaking action at a later date, using a new airspace docket number, to coincide with the slipped Litchfield, MI, VOR decommissioning now planned for April 20, 2023.

List of Subjects in 14 CFR Part 71

Airspace, Incorporation by reference, Navigation (air).

The Withdrawal

Accordingly, pursuant to the authority delegated to me, the final rule published in the Federal Register on March 21, 2022 (87 FR 15879), FR Doc. 2022-05546, is hereby withdrawn.

Authority: 49 U.S.C. 106(f), 106(g), 40103, 40113, 40120; E.O. 10854; 24 FR 9565, 3 CFR, 1959-1963 Comp., p. 389.

Issued in Washington, DC, on March 31, 2022.
Scott M. Rosenbloom,
Manager, Airspace Rules and Regulations.

[FR Doc. 2022-07206 Filed 4-6-22; 8:45 am]

BILLING CODE 4910-13-P